ENVIRONMENTAL PROTECTION AGENCY

[EPA-HQ-OPP-2006-0387; FRL-8067-9]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period January 1 through March 31, 2006 to control emergency pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave., NW., Washington, DC 20460-0001; telephone number: (703) 308-8179.

SUPPLEMENTARY INFORMATION: EPA has granted or denied emergency exemptions to the following State and Federal agencies. The emergency exemptions may take the following form: Crisis, public health, quarantine, or specific.

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established a docket for this action under Docket identification number (ID) EPA-HQ-OPP- 2006-0387; (FRL-8067-9). Publicly available docket materials are available either electronically at http://www.regulations.gov or at the OPP Regulatory Public Docket (7502P), Environmental Protection Agency, Rm. S-4400, One Potomac Yard (South Building); 2777 S. Crystal Drive, Arlington, VA. This Docket Facility is open from 8:30 a.m. to 4 p.m., Monday through Friday, excluding legal holidays. The telephone number for the Docket Facility is (703) 305-5805.

2. Electronic access. You may access this Federal Register document electronically through the EPA Internet under the “ Federal Register” listings at http://www.epa.gov/fedrgstr/.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific: EPA authorized the use of coumaphos in beehives to control varroa mite and small hive beetle; February 23, 2006 to February 1, 2007. Contact: (Stacey Groce)

California

Environmental Protection Agency, Department of Pesticide Regulation

Crisis: On February 27, 2006, for the use of maneb on walnuts to control bacterial blight. This program is expected to end on June 15, 2006. Contact: (Libby Pemberton)

Specific: EPA authorized the use of maneb on walnuts to control bacterial blight; March 1, 2006 to June 15, 2006. Contact: (Libby Pemberton)

EPA authorized the use of imidacloprid on pomegranates to control silverleaf whiteflies; April 15, 2006 to August 15, 2006. Contact: (Andrew Ertman)

EPA authorized the use of oxytetracycline on apples to control fire blight; March 21, 2006 to August 1, 2006. Contact: (Andrew Ertman)

EPA authorized the use of coumaphos in beehives to control varroa mite and small hive beetle; February 8, 2006 to February 1, 2007. Contact: (Stacey Groce)

EPA authorized the use of thymol in beehives to control varroa mite; March 15, 2006 to March 15, 2007. Contact: (Stacey Groce)

Colorado

Department of Agriculture

Specific: EPA authorized the use of difenoconazole on sweet corn seed to suppress post emergence die-back complex and damping off caused by several pathogens (Penicillium oxalicum, Fusarium oxysporum, Aspergillis niger) of sweet corn; March 10, 2006 to March 9, 2007. Contact: (Libby Pemberton)

EPA authorized the use of lambda-cyhalothrin on barley to control Russian wheat aphids, cereal leaf beetle, and cutworms; April 7, 2006 to July 15, 2006. Contact: (Andrew Ertman)

EPA authorized the use of coumaphos in beehives to control varroa mite and small hive beetle; February 8, 2006 to February 1, 2007. Contact: (Stacey Groce)

EPA authorized the use of thymol in beehives to control varroa mite; March 15, 2006 to March 15, 2007. Contact: (Stacey Groce)

Connecticut

Department of Environmental Protection

Specific: EPA authorized the use of fenbuconazole on blueberries to control mummy berry disease; March 28, 2006 to June 30, 2006. Contact: (Andrew Ertman)

EPA authorized the use of coumaphos in beehives to control varroa mite and small hive beetle; April 5, 2006 to February 1, 2007. Contact: (Stacey Groce)

Delaware

Department of Agriculture

Specific: EPA authorized the use of coumaphos in beehives to control varroa mite and small hive beetle; April 5, 2006 to February 1, 2007. Contact: (Stacey Groce)

EPA authorized the use of thymol in beehives to control varroa mite; March 15, 2006 to March 15, 2007. Contact: (Stacey Groce)

Florida

Department of Agriculture and Consumer Services

Specific: EPA authorized the use of fenbuconazole on grapefruit to control greasy spot; March 1, 2006 to October 1, 2006. Contact: (Andrew Ertman)

EPA authorized the use of thiophanate-methyl on citrus to control post-bloom fruit drop and stem end rot; March 13, 2006 to March 1, 2007. Contact: (Andrew Ertman)

EPA authorized the use of coumaphos in beehives to control varroa mite and small hive beetle; February 8, 2006 to February 1, 2007. Contact: (Stacey Groce)

Georgia

Department of Agriculture

Specific: EPA authorized the use of coumaphos in beehives to control varroa mite and small hive beetle; February 8, 2006 to February 1, 2007. Contact: (Stacey Groce)

EPA authorized the use of terbacil on watermelon to control morningglory; March 9, 2006 to August 15, 2006. Contact: (Stacey Groce)

Idaho

Department of Agriculture

Specific: EPA authorized the use of oxytetracycline on apples to control fire blight; April 1, 2006 to August 1, 2006. Contact: (Andrew Ertman)

EPA authorized the use of lambda-cyhalothrin on barley to control Russian wheat aphids, cereal leaf beetle and cutworms; May 1, 2006 to July 30, 2006. Contact: (Andrew Ertman)

EPA authorized the use of coumaphos in beehives to control varroa mite and small hive beetle; February 23, 2006 to February 1, 2007. Contact: (Stacey Groce)

Iowa

Department of Agriculture

Specific: EPA authorized the use of coumaphos in beehives to control varroa mite and small hive beetle; March 9, 2006 to February 1, 2007. Contact: (Stacey Groce)

Illinois

Department of Agriculture

Specific: EPA authorized the use of coumaphos in beehives to control varroa mite and small hive beetle; February 23, 2006 to February 1, 2007. Contact: (Stacey Groce)

EPA authorized the use of thymol in beehives to control varroa mite; March 15, 2006 to March 15, 2007. Contact: (Stacey Groce)

Indiana

Office of Indiana State Chemist

Specific: EPA authorized the use of coumaphos in beehives to control varroa mite and small hive beetle; April 5, 2006 to February 1, 2007. Contact: (Stacey Groce)

Kentucky

Department of Agriculture

Specific: EPA authorized the use of coumaphos in beehives to control varroa mite and small hive beetle; February 23, 2006 to February 1, 2007. Contact: (Stacey Groce)

EPA authorized the use of thymol in beehives to control varroa mite; March 15, 2006 to March 15, 2007. Contact: (Stacey Groce)

Louisiana

Department of Agriculture and Forestry

Specific: EPA authorized the use of coumaphos in beehives to control varroa mite and small hive beetle; February 23, 2006 to February 1, 2007. Contact: (Stacey Groce)

Maine

Department of Agriculture, Food, and Rural Resources

Specific: EPA authorized the use of coumaphos in beehives to control varroa mite and small hive beetle; April 5, 2006 to February 1, 2007. Contact: (Stacey Groce)

EPA authorized the use of propiconazole on wild blueberries to control mummy berry disease; March 28, 2006 to June 30, 2006. Contact: (Carmen Rodia)

Maryland

Department of Agriculture

Specific: EPA authorized the use of coumaphos in beehives to control varroa mite and small hive beetle; February 8, 2006 to February 1, 2007. Contact: (Stacey Groce)

EPA authorized the use of thymol in beehives to control varroa mite; March 15, 2006 to March 15, 2007. Contact: (Stacey Groce)

Massachusetts

Massachusetts Department of Food and Agriculture

Specific: EPA authorized the use of fenbuconazole on blueberries to control mummy berry disease; April 1, 2006 to June 30, 2006. Contact: (Andrew Ertman)

EPA authorized the use of coumaphos in beehives to control varroa mite and small hive beetle; April 5, 2006 to February 1, 2007. Contact: (Stacey Groce)

EPA authorized the use of thymol in beehives to control varroa mite; March 15, 2006 to March 15, 2007. Contact: (Stacey Groce)

Michigan

Michigan Department of Agriculture

Specific: EPA authorized the use of thiophanate-methyl on blueberries to control various fungal diseases; April 1, 2006 to September 20, 2006. Contact: (Andrew Ertman)

EPA authorized the use of oxytetracycline on apples to control fire blight; April 1, 2006 to June 30, 2006. Contact: (Andrew Ertman)

EPA authorized the use of fenbuconazole on blueberries to control mummy berry disease; April 1, 2006 to September 1, 2006. Contact: (Andrew Ertman)

EPA authorized the use of coumaphos in beehives to control varroa mite and small hive beetle; February 23, 2006 to February 1, 2007. Contact: (Stacey Groce)

EPA authorized the use of chlorothalonil on ginseng to control botrytis and alternaria blight; March 15, 2006 to October 31, 2006. Contact: (Stacey Groce)

EPA authorized the use of zoxamide on ginseng to control phytophthora blight; March 15, 2006 to October 31, 2006. Contact: (Stacey Groce)

EPA authorized the use of mancozeb on ginseng to control alternaria stem and leaf blight; March 16, 2006 to October 31, 2006. Contact: (Stacey Groce)

Minnesota

Department of Agriculture

Quarantine: EPA authorized the use of cyproconazole on soybeans to control Asian soybean rust; March 30, 2006 to March 30, 2009. Contact: (Carmen Rodia)

Specific: EPA authorized the use of lambda-cyhalothrin on wild rice to control riceworms; August 1, 2006 to September 10, 2006. Contact: (Andrew Ertman)

EPA authorized the use of coumaphos in beehives to control varroa mite and small hive beetle; April 5, 2006 to February 1, 2007. Contact: (Stacey Groce)

Mississippi

Department of Agriculture and Commerce

Specific: EPA authorized the use of fenbuconazole on blueberries to control mummy berry disease; March 16, 2006 to August 31, 2006. Contact: (Andrew Ertman)

EPA authorized the use of bifenthrin on sweet potatoes to control beetle complex; March 27, 2006 to September 30, 2006. Contact: (Libby Pemberton)

EPA authorized the use of coumaphos in beehives to control varroa mite and small hive beetle; February 23, 2006 to February 1, 2007. Contact: (Stacey Groce)

EPA authorized the use of thymol in beehives to control varroa mite; March 15, 2006 to March 15, 2007. Contact: (Stacey Groce)

Missouri

Department of Agriculture

Specific: EPA authorized the use of coumaphos in beehives to control varroa mite and small hive beetle; February 8, 2006 to February 1, 2007. Contact: (Stacey Groce)

EPA authorized the use of thymol in beehives to control varroa mite; March 15, 2006 to March 15, 2007. Contact: (Stacey Groce)

Montana

Department of Agriculture

Specific: EPA authorized the use of lambda-cyhalothrin on barley to control the cereal leaf beetle, Russian wheat aphid, and cutworms; March 15, 2006 to July 30, 2006. Contact: (Andrew Ertman)

EPA authorized the use of tebuconazole on barley and wheat to control Fusarium head blight; March 15, 2006 to July 20, 2006. Contact: (Libby Pemberton)

EPA authorized the use of thiabendazole on lentils to control Ascochyta blight; February 23, 2006 to June 1, 2006. Contact: (Stacey Groce)

Nebraska

Department of Agriculture

Specific: EPA authorized the use of coumaphos in beehives to control varroa mite and small hive beetle; February 23, 2006 to February 1, 2007. Contact: (Stacey Groce)

EPA authorized the use of thymol in beehives to control varroa mite; March 15, 2006 to March 15, 2007. Contact: (Stacey Groce)

New Hampshire

Department of Agriculture

Specific: EPA authorized the use of fenbuconazole on blueberries to control mummy berry disease; March 16, 2006 to August 31, 2006. Contact: (Andrew Ertman)

New Jersey

Department of Environmental Protection

Specific: EPA authorized the use of fenbuconazole on blueberries to control mummy berry disease; March 16, 2006 to May 30, 2006. Contact: (Andrew Ertman)

New York

Department of Environmental Conservation

Crisis: On March 1, 2006, for the use of sodium hypochlorite on hard, non-porous surfaces to control bacillus anthracis (anthrax spores). This program ended on March 16, 2006. Contact: (Princess Campbell)

Specific: EPA authorized the use of desmedipham on red (table) beets to control several important broadleaf weeds, including hairy galinsoga, common ragweed, redroot pigweed, common lambsquarters, velvetleaf, nightshade spp. and wild mustard; May 15, 2006 to August 15, 2006. Contact: (Libby Pemberton)

EPA authorized the use of fomesafen on dry and snap beans to control broadleaf weeds; June 1, 2006 to August 30, 2006. Contact: (Andrew Ertman)

EPA authorized the use of fenbuconazole on blueberries to control mummy berry disease; March 16, 2006 to June 30, 2006. Contact: (Andrew Ertman)

EPA authorized the use of coumaphos in beehives to control varroa mite and small hive beetle; March 9, 2006 to February 1, 2007. Contact: (Stacey Groce)

EPA authorized the use of thymol in beehives to control varroa mite; March 15, 2006 to March 15, 2007. Contact: (Stacey Groce)

North Carolina

Department of Agriculture

Specific: EPA authorized the use of fenbuconazole on blueberries to control mummy berry disease; March 14, 2006 to August 30, 2006. Contact: (Andrew Ertman)

EPA authorized the use of bifenthrin on sweet potatoes to control beetle complex; March 27, 2006 to October 31, 2006. Contact: (Libby Pemberton)

EPA authorized the use of coumaphos in beehives to control varroa mite and small hive beetle; February 23, 2006 to February 1, 2007. Contact: (Stacey Groce)

EPA authorized the use of thymol in beehives to control varroa mite; March 15, 2006 to March 15, 2007. Contact: (Stacey Groce)

North Dakota

Department of Agriculture

Specific: EPA authorized the use of sulfentrazone on flax to control kochia; March 31, 2006 to June 30, 2006. Contact: (Andrew Ertman)

EPA authorized the use of thiabendazole on lentils to control Ascochyta blight; February 23, 2006 to June 1, 2006. Contact: (Stacey Groce)

Ohio

Department of Agriculture

Specific: EPA authorized the use of sulfentrazone on strawberries to control common groundsel; June 20, 2006 to December 15, 2006. Contact: (Andrew Ertman)

EPA authorized the use of coumaphos in beehives to control varroa mite and small hive beetle; February 8, 2006 to February 1, 2007. Contact: (Stacey Groce)

Oklahoma

Department of Agriculture

Specific: EPA authorized the use of coumaphos in beehives to control varroa mite and small hive beetle; April 5, 2006 to February 1, 2007. Contact: (Stacey Groce)

Oregon

Department of Agriculture

Specific: EPA authorized the use of sulfentrazone on strawberries to control broadleaf weeds; March 15, 2006 to February 28, 2007. Contact: (Andrew Ertman)

EPA authorized the use of coumaphos in beehives to control varroa mite and small hive beetle; February 23, 2006 to February 1, 2007. Contact: (Stacey Groce)

EPA authorized the use of thymol in beehives to control varroa mite; March 15, 2006 to March 15, 2007. Contact: (Stacey Groce)

EPA authorized the use of thiabendazole on lentils to control Ascochyta blight; February 28, 2006 to June 1, 2006. Contact: (Stacey Groce)

EPA authorized the use of ethoprop on baby hops to control garden symphylans (Scutigerella immaculata); March 15, 2006 to May 31, 2006. Contact: (Libby Pemberton).

EPA authorized the use of fenbuconazole on blueberries to control mummy berry disease; March 16, 2006 to May 31, 2006. Contact: (Andrew Ertman)

EPA authorized the use of oxytetracycline on apples to control fire blight; April 1, 2006 to August 1, 2006. Contact: (Andrew Ertman)

Pennsylvania

Department of Agriculture

Specific: EPA authorized the use of fomesafen on snap beans to control broadleaf weeds; June 1, 2006 to August 30, 2006. Contact: (Andrew Ertman)

EPA authorized the use of fenbuconazole on blueberries to control mummy berry disease; April 1, 2006 to September 1, 2006. Contact: (Andrew Ertman)

EPA authorized the use of coumaphos in beehives to control varroa mite and small hive beetle; February 8, 2006 to February 1, 2007. Contact: (Stacey Groce)

Rhode Island

Department of Environmental Management

Specific: EPA authorized the use of fenbuconazole on blueberries to control mummy berry disease; April 1, 2006 to June 30, 2006. Contact: (Andrew Ertman)

South Carolina

Clemson University

Specific: EPA authorized the use of fenbuconazole on blueberries to control mummy berry disease; March 28, 2006 to August 31, 2006. Contact: (Andrew Ertman)

EPA authorized the use of coumaphos in beehives to control varroa mite and small hive beetle; April 5, 2006 to February 1, 2007. Contact: (Stacey Groce)

South Dakota

Department of Agriculture

Quarantine: EPA authorized the use of cyproconazole on soybeans to control Asian soybean rust; March 30, 2006 to March 30, 2009. Contact: (Carmen Rodia)

Specific: EPA authorized the use of coumaphos in beehives to control varroa mite and small hive beetle; March 9, 2006 to February 1, 2007. Contact: (Stacey Groce)

Tennessee

Department of Agriculture

Specific: EPA authorized the use of coumaphos in beehives to control varroa mite and small hive beetle; April 5, 2006 to February 1, 2007. Contact: (Stacey Groce)

Virginia

Department of Agriculture and Consumer Services

Specific: EPA authorized the use of coumaphos in beehives to control varroa mite and small hive beetle; February 8, 2006 to February 1, 2007. Contact: (Stacey Groce)

EPA authorized the use of thiophanate-methyl on tomato to control timber rot; March 3, 2006 to September 30, 2006. Contact: (Stacey Groce)

EPA authorized the use of thymol in beehives to control varroa mite; March 15, 2006 to March 15, 2007. Contact: (Stacey Groce)

Washington

Department of Agriculture

Specific: EPA authorized the use of propiconazole on filberts to control Eastern filbert blight (Anisogramma anomala); February 22, 2006 to November 30, 2006. Contact: (Libby Pemberton)

EPA authorized the use of sulfentrazone on strawberries to control broadleaf weeds; March 15, 2006 to February 28, 2007. Contact: (Andrew Ertman)

EPA authorized the use of fenbuconazole on blueberries to control mummy berry disease; March 16, 2006 to June 10, 2006. Contact: (Andrew Ertman)

EPA authorized the use of oxytetracycline on apples to control fire blight; April 1, 2006 to August 1, 2006. Contact: (Andrew Ertman)

EPA authorized the use of coumaphos in beehives to control varroa mite and small hive beetle; February 23, 2006 to February 1, 2007. Contact: (Stacey Groce)

EPA authorized the use of thiabendazole on lentils to control Ascochyta blight; March 6, 2006 to June 1, 2006. Contact: (Stacey Groce)

EPA authorized the use of thymol in beehives to control varroa mite; March 15, 2006 to March 15, 2007. Contact: (Stacey Groce)

West Virginia

Department of Agriculture

Specific: EPA authorized the use of coumaphos in beehives to control varroa mite and small hive beetle; February 23, 2006 to February 1, 2007. Contact: (Stacey Groce)

Wisconsin

Department of Agriculture, Trade, and Consumer Protection

Specific: EPA authorized the use of propiconazole on cranberries to control cottonball disease (Monilinia oxycocci); March 9, 2006 to June 15, 2006. Contact: (Libby Pemberton)

EPA authorized the use of chlorothalonil on ginseng to control botrytis and alternaria blight; March 15, 2006 to October 31, 2006. Contact: (Stacey Groce)

EPA authorized the use of zoxamide on ginseng to control phytophthora blight; March 15, 2006 to October 31, 2006. Contact: (Stacey Groce)

EPA authorized the use of mancozeb on ginseng to control alternaria stem and leaf blight; March 16, 2006 to October 31, 2006. Contact: (Stacey Groce)

B. Federal Departments and Agencies

Agriculture Department

Animal and Plant Health Inspector Service

Crisis: On March 2, 2006, for the use of methyl bromide on avocado;bananas; plantains; blackberries; raspberries; edible cucurbit seeds; cottonseed for use as food or feed; cucurbit vegetables (not currently labeled); gherkins; ginger tops, fresh; fresh herbs and spices; kiwi fruit; leafy vegetables (not currently labeled); longan; lychee fruit; mint, dried; fresh mint; opuntia; rambutan; root and tuber vegetables (not currently labeled); dasheen (root and tuber); and snow peas to eradicate any pest new to or not known to be widely prevalent within the U.S. This program is expected to end on March 3, 2007. Contact: (Libby Pemberton)

List of Subjects

Environmental protection, Pesticides and pest.

Dated: May 22, 2006.
Lois Rossi,
Director, Registration Division, Office of Pesticide Programs.

FR Doc. E6-8723 Filed 6-6-06; 8:45 am

BILLING CODE 6560-50-S